DEPARTMENT OF AGRICULTURE

Agricultural Marketing Service

[Docket # AMS-FV-2006-0199; FV-07-301]

United States Standards for Grades of Mangos

AGENCY: Agricultural Marketing Service, USDA.

ACTION: Notice.

SUMMARY: The Department of Agriculture (USDA), Agricultural Marketing Service (AMS) is revising the voluntary United States Standards for Grades of Mangos. Specifically, AMS is revising the standards to allow for longer, up to an inch, attached stem lengths. The revisions would bring the standards for mangos in line with current marketing practices, thereby improving their usefulness in serving the industry.

EFFECTIVE DATES: August 24, 2007.

FOR FURTHER INFORMATION CONTACT: Vincent J. Fusaro, Standardization Section, Fresh Products Branch; (202) 720-2185. The United States Standards for Grades of Mangos are available either through the address cited above or by accessing the AMS, Fresh Products Branch Web site at: http://www.ams.usda.gov/standards/stanfrfv.htm.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables that are not requirements of Federal Marketing Orders or U.S. Import Requirements, no longer appear in the Code of Federal Regulations, but are maintained by USDA, AMS, Fruit and Vegetable Programs.

AMS is revising the voluntary United States Standards for Mangos using the procedures that appear in Part 36, Title 7 of the Code of Federal Regulations (7 CFR part 36). The standards were developed February 2006.

Background

AMS received two petitions, one from a packer/shipper and another from an importer, requesting a revision to the United States Standards for Grades of Mangos. The petitioners requested a revision to the definition of “well trimmed.” The standards currently define “well trimmed” as: The stem is neatly clipped or broken off at a point not more than ½ inch beyond the point of attachment. The petitioners requested an increase to the allowable length of the attached stem to one inch from the point of attachment. The packer/shipper stated a change is warranted because a longer stem, up to one inch in length, would permit healing of the stem end and reduce the amount of latex that leaks out of the fruit. The petitioner further stated incidences of “sunken stem end” would be reduced significantly by allowing a longer stem.

AMS published a notice in the Federal Register (72 FR 5259) on February 5, 2007, soliciting comments on the possible revisions to the United States Standards for Grades of Mangos. No comments were received in response to the notice.

Based on the initial request received and the information gathered, AMS is revising the mango standards to bring the standards in line with current marketing practices. The revision to the definition reads as follows: “Well trimmed” means the stem is neatly clipped or broken off at a point not more than 1 inch beyond the point of attachment.

The official grade of a lot of mangos covered by these standards is determined by the procedures set forth in the Regulations Governing Inspection, Certification, and Standards of Fresh Fruits, Vegetables and Other Products (Sec. 51.1 to 51.61).

The revisions to the United States Standards for Grades of Mangos will become effective 30 days after publication of this notice in the Federal Register.

Authority: 7 U.S.C. 1621-1627.

Dated: July 19, 2007.
Lloyd C. Day,
Administrator, Agricultural Marketing Service.

[FR Doc. E7-14339 Filed 7-24-07; 8:45 am]

BILLING CODE 3410-02-P